DEPARTMENT OF JUSTICE

Antitrust Division

Notice Pursuant to the National Cooperative Research and Production Act of 1993—Collaboration Agreement for High Performance Buildings

Notice is hereby given that, on May 25, 2004, pursuant to section 6(a) of the National Cooperative Research and Production Act of 1993, 15 U.S.C. 4301 et seq. (“the Act”), United Technologies Corporation, on behalf of the Collaboration Agreement for High Performance Buildings, has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are United Technologies Corporation, acting through United Technologies Research Center, East Hartford, CT; and Oculus Technologies Corporation, Boston, MA. The nature and objectives of the venture are to engage in cooperative research and development in the area of integrated design methods and tools for high performance, safe buildings. The aforementioned parties will not individually engage in production of the resulting product under this joint research and development venture.

Membership in the program remains open, and the Collaboration Agreement for High Performance Buildings intends to file additional notifications disclosing all changes in membership or planned activities.

Dorothy B. Fountain;
Deputy Director of Operations, Antitrust Division.

[FR Doc. 04-14542 Filed 6-24-04; 8:45 am]

BILLING CODE 4410-11-M